OFFICE OF THE UNITED STATES TRADE REPRESENTATIVE

Request for Comments and Notice of Public Hearing Concerning Market Access in the Doha Development Agenda Negotiations in the World Trade Organization (WTO)

AGENCY: Office of the United States Trade Representative.

ACTION: Request for comments and notice of public hearing concerning market access and services issues in the WTO Doha Development Agenda negotiations.

SUMMARY: The interagency Trade Policy Staff Committee (TPSC) will convene public hearings Monday, October 21 and Wednesday November 6 to obtain public comment on the effects of the reduction of tariffs and nontariff barriers to trade in agriculture and non-agricultural goods and services, and other market liberalization among WTO members in the Doha Development Agenda negotiations. Comments submitted pursuant to an earlier Federal Register notice need not be resubmitted in response to this Notice.

DATES: Persons wishing to testify orally at the hearing on agricultural and non-agricultural goods market access must provide written notification of their intention, as well as their testimony, by Wednesday, October 9, 2002. A hearing on agricultural and non-agricultural goods market access will be held in Washington, DC, beginning on Monday, October 21, 2002 and will continue as necessary on subsequent days. Persons wishing to testify orally at the hearing on services market access must provide written notification of their intention, as well as their testimony, by Monday, October 28, 2002. A hearing for services will be held in Washington, DC, beginning on Wednesday November 6, 2002, and will continue as necessary on subsequent days. Written comments on all issues are due by noon, Friday November 8, 2002.

ADDRESSES: Submissions by electronic mail:

FR0032@ustr.gov (Notice of intent to testify and written testimony for non-agricultural and agricultural goods);

FR0033@ustr.gov (Notice of intent to testify and written testimony for services);

FR0035@ustr.gov (written comments for agriculture, non-agriculture goods, and services).

Submissions by facsimile: Gloria Blue, Executive Secretary, Trade Policy Staff Committee, at 202/395-6143.

The public is strongly encouraged to submit documents electronically rather than by facsimile. (See requirements for submissions below.)

FOR FURTHER INFORMATION CONTACT: For procedural questions concerning written comments or participation in the public hearing, contact Gloria Blue, (202) 395-3475. Further information on the World Trade Organization and can be obtained via Internet at the WTO Web site www.wto.org, the Office of the U.S. Trade Representative at www.ustr.gov. Questions on WTO agriculture negotiations should be directed to Jason Hafemeister, Director for WTO Agriculture Negotiations, (202) 395-5124. Questions on WTO non-agricultural market access negotiations should be directed to Paul Moore, Director for Market Access, (202) 395-5656. Questions on WTO services negotiations should be directed to Peter Collins, Deputy Assistant USTR for Services, (202) 395-7271.

SUPPLEMENTARY INFORMATION:

1. Background

The TPSC has sought comments regarding the subject matter of these negotiations in three earlier solicitations: (1) Public Comments Regarding the Doha Multilateral Trade Negotiations and Agenda in the World Trade Organization, 67 FR 12637, March 19, 2002; (2) Public Comments on Preparations for the Fourth Ministerial Conference of the World Trade Organization, November 9-13, 2001 in Doha, Qatar, 66 FR 18142, April 5, 2001; and (3) Public Comments for Mandated Multilateral Trade negotiations on Agriculture and Services in the WTO and Priorities for Future Market Access Negotiations on Non-Agricultural Products, 65 FR 16450, March 28, 2000. Supplementary or new submissions on these topics are welcome, but comments submitted pursuant to an earlier notice need not be resubmitted. The TPSC will review supplemental or new comments together with earlier submissions in developing positions.

The Doha Development Agenda agreed to at the WTO's Fourth Ministerial Meeting and set out in the Doha Declaration establishes a negotiating agenda that is to be accomplished within three years (i.e., not later than January 1, 2005), and sets out a certain number of issues to be considered further at the next ministerial meeting of the WTO scheduled for September 10-14, 2003.

The U.S. International Trade Commission (ITC) has provided to the TPSC the public comments received on agricultural and non-agricultural products as part of its investigation (Investigation No. 332-405), Probable Economic Effects on Reduction or Elimination of U.S. Tariffs (November 1999 (Confidential report)). On February 11, 2002, the U.S. Trade Representative requested that the ITC update its advice. The ITC instituted an investigation to update its advice (Investigation No. 332-440, Probable Effect of the Reduction or Elimination of U.S. Tariffs) on February 28, 2002 and published its Notice of Institution in 67 FR 10576, March 8, 2002. The ITC will again provide the public comments received as part of its investigation to the TPSC so these comments need not be resubmitted separately to the TPSC. By separate notices request for public comment will be solicited regarding an environmental review and a review of the impact on U.S. employment, including labor markets, of any agreement that may result from the negotiations launched by the Doha Declaration. For ease of submission, the TPSC has identified the following headings under which comments may be submitted. Submissions should identify the relevant subject area or areas to which comments apply. These include:

(A) Agriculture

The mandated negotiations in agriculture address agricultural goods from Chapters 1-24, except for fish and fish products; 2905.43 (mannitol); 2905.44 (sorbitol); 3301 (essential oils); 3501-3505 (albuminoidal substances, modified starches, glues); 3809.10 (finishing agents); 3823.60 (sorbitol n.e.p.); 4101-4103 (hides and skins); 4301 (raw furskins); 5001-5003 (raw silk and silk waste); 5101-5103 (wool and animal hair); 5201-5203 (raw cotton, waste and cotton carded or combed); 5301 (raw flax); and 5302 (raw hemp), as specified by the Agreement on Agriculture.

The Doha Declaration outlines the following three objectives of the agriculture negotiations: substantial improvements in market access; reduction, with a view to phasing out, all forms of export subsidies; and, substantial reductions in domestic support. Market access issues for negotiation include tariffs, tariff-rate quotas, tariff administration, and import state trading enterprises. Domestic support issues include trade-distorting support and non-trade distorting support. Finally, export competition includes issues such as export subsidies, export credits, export state trading enterprises, food aid, and export taxes and restrictions. In addition, comments on sectoral initiatives and rules and disciplines affecting trade in agricultural goods are welcome.

Respondents are requested to provide as much specificity as possible on a commodity and country-specific level focusing on trade interests and barriers. To the maximum extent possible, commodities should be identified by the Harmonized System nomenclature at the 6-digit level and for specific markets of interest. The Doha Declaration calls for agreement on modalities for the negotiations to be reached by March 31, 2003, and the submission of initial schedules by the fifth WTO Ministerial meeting, scheduled for September 10—14, 2003. A helpful supplement to the written statement would be the provision of a document in electronic format containing as much of the technical details as possible, either in a spreadsheet format or in a word processing table format, with each tariff line in a separate cell. This document should be transmitted via e-mail and should be labeled and should clearly identify the software used and the respondent. The e-mail should be sent to FR0035@ustr.gov.

(B) Services

For services, topics for negotiating objectives include removal or reduction of barriers to U.S. services exports under existing GATS disciplines; establishment of new GATS disciplines to ensure effective market access, e.g., proposed disciplines on domestic regulations on services, possibly addressing transparency and necessity; and clarification of sectoral definitions in the Agreement. The United States submitted its initial requests for specific commitments on July 1, 2002 and intends to submit its initial offer by the scheduled deadline of March 31, 2003.

Services sectors under consideration in the negotiations include: (1) Business services (including professional and related services such as legal, accounting, auditing and bookkeeping, taxation, medical, dental, veterinary, engineering, architectural, and urban planning services), computer and related services, research and development services, real estate services, rental and leasing services, and advertising and management services; (2) communication services (including telecommunications services, audiovisual services, express delivery services); (3) construction and related engineering services; (4) distribution services (including wholesale, retail, and franchising services); (5) educational and training services; (6) environmental services; (7) energy services; (8) financial services, including insurance and insurance-related services, banking and securities services; (9) health-related and social services; (10) tourism and travel-related services; (11) recreational, cultural and sporting services; and (12) transport services. Comments on services in response to this notice should include, wherever appropriate, sector-specific priorities by country. A helpful supplement to the written statement would be the provision of a document in electronic format transmitted via e-mail containing as much of the technical details as possible, either in a spreadsheet format or in a word processing table format, with each services sector in a separate cell. This e-mailed document should be labeled and should clearly identify the software used and the respondent. Send the e-mail to FR0035@ustr.gov.

(C) Non-Agricultural or Industrial Market Access

Comments are welcome with as much specificity as the respondent can provide on general negotiating objectives and/or targets; country- and product-specific export interests or barriers; and particular measures that might be improved in the context of the new negotiations, including both tariffs and non-tariff measures (NTMs). With regard to NTMs, any available details on the foreign laws or regulations that lie behind the barrier would also be helpful. To the maximum extent possible, commodities should be identified by Harmonized System nomenclature at the 6-digit level, (or preferably 8-digit level or higher, where available) and should specify markets of interest. WTO members have agreed in the workplan for non-agricultural market access to seek to reach a common understanding on a possible outline of modalities for non-agricultural market access by the end of March 2003 with a view to reaching an agreement on those modalities by May 31, 2003.

Specific comments on possible approaches to negotiations are invited (i.e., sectoral initiatives such as zero-for-zero or harmonization approaches, request/offer and formula methodologies, and approaches that address the interests of small- and medium-sized enterprises). Comments should also encompass the priorities and methodologies for the negotiation of environmental goods identified in the Doha Declaration under the heading of Trade and the Environment. A helpful supplement to the written statement would be the provision of a document in electronic format transmitted via e-mail containing as much of the technical details as possible, either in a spreadsheet format or in a word processing table format, with each tariff line in a separate cell. This e-mailed document should be labeled and should clearly identify the software used and the respondent. The e-mail should be sent to FR0035@ustr.gov.

(D) Other Market Access Issues

Comments are welcome with as much specificity as the respondent can provide on general negotiating objectives and/or targets; country- and product-specific export interests or barriers; and particular measures that might be improved in the context of other market access issues, including government procurement particularly with respect to current Members of the plurilateral Government Procurement Agreement. The e-mail should be sent to FR0035@ustr.gov.

2. Public Comments and Testimony

As provided in the regulations of the TPSC (15 CFR part 2003), the Chairman of the TPSC invites written comments and/or oral testimony of interested parties at a public hearing. Comments and testimony may address the reduction or elimination of tariffs or non-tariff barriers on any articles provided for in the HTSUS that are products of a WTO member country, any concession which should be sought by the United States, or any other matter relevant to the market access and services negotiations in the Doha Development Agenda negotiations. The TPSC invites comments and testimony on all of these matters, and in light of the schedule for presenting market access offers, in particular seeks comments and testimony addressed to:

(a) Economic benefits and costs to U.S. producers and consumers of the reduction of tariffs or non-tariff barriers on trade between the United States and other WTO members, and the recommended staging schedule for reduction.

(b) Existing nontariff barriers to trade in goods between United States and other WTO members and the economic benefits and costs of removing those barriers.

(c) Existing barriers to trade in services between the United States and other WTO members and the economic benefits and costs of removing such barriers.

As previously noted, a hearing will be held on Monday, October 21, 2002 for agricultural and non-agricultural goods market access, and will continue as necessary on subsequent days, in Rooms 1 and 2 at 1724 F Street, NW., Washington, DC 20508. A hearing will be held at the same location on Wednesday, November 6, 2002 for services market access and will continue as necessary on subsequent days. Persons wishing to testify at the agricultural and non-agricultural goods market access hearing must provide written notification of their intention by Friday, October 11, 2002. Persons wishing to testify at the services market access hearing must provide written notification of their intention by Monday, October 28, 2002. The notification should include: (1) The name, address, and telephone number of the person presenting the testimony; and (2) a short (one or two paragraph) summary of the presentation, including the subject matter and, as applicable, the product(s) (with HTSUS numbers) and/or service sector(s) to be discussed. A copy of the testimony must accompany the notification. Remarks at the hearing should be limited to no more than five minutes to allow for possible questions from the TPSC. Persons with mobility impairments who will need special assistance in gaining access to the hearing should contact Gloria Blue. Interested persons, including persons who participate in the hearing, may submit written comments by noon, Friday November 8, 2002. Written comments may include rebuttal points demonstrating errors of fact or analysis not pointed out in the hearing. All written comments must state clearly the position taken, describe with particularity the supporting rationale, and be in English. The first page of written comments must specify the subject matter including, as applicable, the product(s) (with HTSUS numbers) or service sector(s).

3. Requirements for Submissions

In order to facilitate prompt processing of submissions, the Office of the United States Trade Representative strongly urges and prefers electronic (e-mail) submissions in response to this notice. In the event that an e-mail submission is impossible, submissions should be made by facsimile.

Persons making submissions by e-mail should use the following subject line: “WTO Market Access” followed by (as appropriate) “Agriculture”, “Non-Agriculture”, “Services”, or “Other” and “Notice of Intent to Testify”, “Testimony”, or “Written Comments.” Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments, notice of testimony, and testimony will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

General information concerning the Office of the United States Trade Representative may be obtained by accessing its Internet server (www.ustr.gov).

Carmen Suro-Bredie,
Chairman, Trade Policy Staff Committee.

[FR Doc. 02-23846 Filed 9-18-02; 8:45 am]

BILLING CODE 3190-01-P